DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 8, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on June 3, 2019.
Donald P. Burger,
Chief, General Approvals and Permits Branch.

Special Permits Data
Application No. | Applicant | Regulation(s) affected | Nature of the Special Permits thereof
20879-N | AVIALL SERVICES, INC | 172.200, 172.300, 172.400, 173.159(j), 173.159(j)(3), 173.159(j)(4) | To authorize the transportation in commerce of nickel-cadmium batteries as not subject to the requirements of the HMR. (modes 1, 4, 5).
20881-N | ARKEMA INC | 172.102(c)(7) | To authorize the transportation in commerce of certain Class 3 hazardous materials in non-UN portable tanks. (mode 1)
20882-N | STANLEY BLACK & DECKER, INC | 173.6(a)(1)(ii), 173.6(d) | To authorize the transportation in commerce of lithium ion batteries as materials of trade when each package has a gross mass exceeding 30 kg and the aggregate weight exceeds 200 kg. (mode 1).
20887-N | ERA HELICOPTERS, LLC | 172.101(j) | To authorize the transportation of lithium ion batteries aboard a passenger-carrying aircraft operating in a helicopter air ambulance configuration. (mode 5).
20892-N | NATURAL CHOICE CORPORATION | 172.200, 172.300, 172.500, 172.400 | To authorize the transportation in commerce of DOT 3AL cylinders with alternate hazard communication. (mode 1).
20893-N | DAIMLER AG | 173.220(d) | To authorize the transportation in commerce of untested lithium batteries contained in a flammable liquid powered vehicle. (mode 4).

[FR Doc. 2019-11968 Filed 6-6-19; 8:45 am]

BILLING CODE 4909-60-P